DEPARTMENT OF COMMERCE

National Oceanic and Atmospheric Administration

Request for Public Comment on the Alaska Coastal Mapping Strategy Implementation Plan

AGENCY: Office of Coast Survey (OCS), National Ocean Service (NOS), National Oceanic and Atmospheric Administration (NOAA), Department of Commerce (DOC).

ACTION: Notice of public comment.

SUMMARY: On behalf of the Alaska Mapping Executive Committee (AMEC), a Federal-state partnership to coordinate the modernization of critical Alaska map layers, NOAA requests review of the draft Alaska Coastal Mapping Strategy (ACMS) Implementation Plan from all interested parties. Through this request for information (RFI), AMEC's Coastal Subcommittee seeks input from the public on the Implementation Plan and its milestones targeted at improving the coordination and collection of coastal mapping in Alaska. AMEC seeks to ensure that program implementation is informed by and responsive to all sectors through sustained engagement and effective partnerships.

DATES: Comments must be received via email by 5 p.m. ET on January 31, 2022.

ADDRESSES: Comments can be submitted by email to iwgocm.staff@noaa.gov by the January 31, 2022, deadline.

Instructions: The draft ACMS Implementation Plan can be found at https://iocm.noaa.gov/about/strategic-plans.html. Response to this RFI is voluntary. Respondents need not reply to all questions listed. For all submissions, clearly indicate which questions are being answered. Email attachments will be accepted in plain text, Microsoft Word, or Adobe PDF formats only. Each individual or institution is requested to submit only one response. NOAA requests that no business proprietary information, copyrighted information, or personally identifiable information be submitted in response to this RFI. Please note that the U.S. Government will not pay for response preparation, or for the use of any information contained in the response.

FOR FURTHER INFORMATION CONTACT: Requests for additional information should be directed to Ashley Chappell, NOAA Integrated Ocean and Coastal Mapping Coordinator, 240-429-0293, or ashley.chappell@noaa.gov.

SUPPLEMENTARY INFORMATION:

Background

The ACMS was completed in June 2020, in conjunction with the National Ocean Mapping, Exploration and Characterization Strategy (NOMEC). The ACMS envisions an Alaska that in 2030 possesses seamless coastal mapping data. This vision translates into near-term goals for action, including acquiring priority coastal mapping datasets over the next 5 years, and the remainder of Alaskan shoreline datasets by 2030. Primarily focused on airborne and satellite technologies, the four ACMS goals are to:

(1) Build on existing mapping partnerships to meet Alaska's coastal mapping needs.

(2) Expand coastal data collection to deliver the priority geospatial products stakeholders require.

(3) Leverage innovation in mapping technology development.

(4) Conduct strategic communications to promote widespread stakeholder engagement.

The draft ACMS Implementation Plan, now available for review, adds detail to the goals and objectives in the strategy. The NOMEC implementation plan, published January 2021, describes milestones and objectives aimed at the completion of mapping Alaska's waters deeper than 40m by 2030 and those shallower than 40m by 2040. While the boundary line between the ACMS and NOMEC is not exact due to varying extinction depths of airborne technologies, the two strategies combined are intended to fill the mapping gaps in Alaskan coastal and ocean waters.

Request for Comment

This notice requests comment on the draft ACMS Implementation Plan at https://iocm.noaa.gov/about/strategic-plans.html. Reviewer comments are not limited, but questions that might be considered while reviewing the plan include:

(1) What does successful implementation look like to your organization, sector, or interest group? How do you anticipate your organization or sector will participate in the ACMS implementation?

(2) What specific implementation actions would be of value to your organization/sector?

(3) How should the AMEC Coastal Subcommittee appropriately engage your organization to get ongoing feedback throughout implementation?

(4) What activities is your organization currently undertaking, has recently undertaken, or is planning that may support or benefit from ACMS implementation? What processes and connections would be required to realize those opportunities?

(5) What publicly accessible databases and archives does your organization offer that may house data relevant to ACMS?

(6) Who are the additional partners that are needed to effectively plan and execute a successful ACMS program in the future, as well as those that can help disseminate information from this work to various audiences? How could Federal agencies more effectively engage these partners? If there are barriers to this cooperation, please describe. Please do not only limit your responses to organizations that are traditionally involved in this work, but also think how we can engage other groups that can make important contributions.

(7) How can ACMS and NOMEC implementation plan activities and milestones be aligned to most efficiently advance the goals of both strategies?

The Coast and Geodetic Survey Act of 1947, 33 U.S.C. 883e.

Kathryn Ries,
Performing the Duties of Director, Office of Coast Survey, National Ocean Service, National Oceanic and Atmospheric Administration.

[FR Doc. 2021-23878 Filed 11-1-21; 8:45 am]

BILLING CODE 3510-JE-P